POSTAL SERVICE

39 CFR Part 551

Semipostal Stamp Program

AGENCY: Postal Service™.

ACTION: Final rule.

SUMMARY: The Postal Service is revising its discretionary Semipostal Stamp Program regulations to provide more flexibility to manage the program.

DATES: Effective October 5, 2020.

FOR FURTHER INFORMATION CONTACT: Amity C. Kirby, Manager, Stamp Products & Exhibitions, 202-268-7998, amity.c.kirby@usps.gov.

SUPPLEMENTARY INFORMATION:

Background

On June 10, 2020, the Postal Service published its proposed rule to revise its discretionary Semipostal Stamp Program regulations to provide more flexibility to manage the program (85 FR 35404). The Postal Service received 63 comment letters from the public, associations, and members of Congress. All commenters were in favor of the revisions. Most noted that the revisions would permit resumption of sales of the Alzheimer's semipostal stamp.

Summary of Changes

The regulations in effect before this final rule, promulgated April 20, 2016, limited sales of discretionary semipostal stamps to one at a time and a two-year sales period, and contemplated five semipostal stamp offerings over the 10-year term of the Semipostal Stamp program. This proved impracticable. Further, the Postal Service encountered continued interest in the sale of a previously offered discretionary semipostal stamp for which the Postal Service possesses unsold inventory.

The final rule eliminates the one at a time limitation and the two-year sales period limitation, and provides more flexibility to the Postal Service. The immediate effect of this final rule is to permit resumption of sales of the Alzheimer's semipostal stamp.

List of Subjects in 39 CFR Part 551

Administrative practice and procedure.

For the reasons stated in the preamble, the Postal Service amends 39 CFR part 551 as follows:

PART 551—SEMIPOSTAL STAMP PROGRAM

1. The authority citation for part 551 continues to read as follows:

Authority: 39 U.S.C. 101, 201, 203, 401, 403, 404, 410, 414, 416.

2. Amend § 551.3, by revising paragraph (a) to read as follows:

§ 551.3 Procedure for selection of causes and recipient executive agencies.

* * * * *

(a) The Office of Stamp Services will accept proposals from interested persons for future semipostal stamps beginning on May 20, 2016. The Office of Stamp Services will begin considering proposals on July 5, 2016. This section should not be read to reflect the intention of the Postal Service to issue any particular number of semipostal stamps during the 10-year period of this part. Proposals may be submitted and will be considered on a rolling basis until seven years after May 20, 2016. The Office of Stamp Services may publicize this request for proposals in the Federal Register or through other means, as it determines in its discretion. Proposals for semipostal stamps made prior to May 20, 2016 will not be given further consideration. Nothing in this section should be construed as barring the resubmission of previously submitted causes and recipient executive agencies.

* * * * *

§ 551.5 [Amended]

3. In § 551.5, remove and reserve paragraphs (b) and (c).

Joshua J. Hofer,
Attorney, Federal Compliance.

[FR Doc. 2020-18549 Filed 9-3-20; 8:45 am]

BILLING CODE 7710-12-P